DEPARTMENT OF TRANSPORTATION

Federal Aviation Administration

14 CFR Part 39

[Docket No. FAA-2013-0555; Product Identifier 2010-SW-047-AD; Amendment 39-19537; 2014-05-06 R2]

RIN 2120-AA64

Airworthiness Directives; Airbus Helicopters Deutschland GmbH (Type Certificate Previously Held by Eurocopter Deutschland GmbH) Helicopters

AGENCY: Federal Aviation Administration (FAA), Department of Transportation (DOT).

ACTION: Final rule; request for comments; removal.

SUMMARY: We are removing Airworthiness Directive (AD) 2014-05-06 R1, which applied to Airbus Helicopters Deutschland GmbH (type certificate previously held by Eurocopter Deutschland GmbH) Model EC135 and MBB-BK 117 C-2 helicopters. AD 2014-05-06 R1 required installing bushings and washers on the flight controls. This action is prompted by an error in the issuance of 2014-05-06 R1. Accordingly, AD 2014-05-06 R1 is removed.

DATES: This AD becomes effective February 19, 2019.

We must receive comments on this AD by April 22, 2019.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at http://www.regulations.gov by searching for and locating Docket No. FAA-2013-0555; or in person at Docket Operations between 9 a.m. and 5 p.m., Monday through Friday, except Federal holidays. The AD docket contains this AD, the economic evaluation, any comments received, and other information. The street address for Docket Operations (telephone 800- 647-5527) is in the ADDRESSES section. Comments will be available in the AD docket shortly after receipt.

FOR FURTHER INFORMATION CONTACT: Matt Fuller, Senior Aviation Safety Engineer, Safety Management Section, Rotorcraft Standards Branch, FAA, 10101 Hillwood Pkwy., Fort Worth, TX 76177; telephone (817) 222-5110; email matthew.fuller@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

We issued AD 2014-05-06 R1, Amendment 39-19529 (83 FR 64734, December 18, 2018) (AD 2014-05-06 R1), for certain Model EC135 P1, P2, P2+, T1, T2, and T2+ helicopters and Model MBB-BK 117C-2 helicopters. AD 2014-05-06 R1 required installing bushings and washers on the flight controls to prevent shifting of the flight control bearings in the axial direction. AD 2014-05-06 R1 removed AD 2014-05-06, Amendment 39-17779 (79 FR 13196, March 10, 2014) (AD 2014-05-06), which had the same requirements but had the additional requirement of repetitively inspecting the flight control bearings. The actions of AD 2014-05-06 and AD 2014-05-06 R1 were intended to detect and correct incorrectly installed flight control bearings.

Actions Since AD 2014-05-06 R1 Was Issued

After we published AD 2014-05-06 R1, we realized that the amendatory language is in error. Although, as published, AD 2014-05-06 R1 stated it replaced AD 2014-05-06, we previously removed AD 2014-05-06 when we issued AD 2017-03-01, Amendment 39-18792 (82 FR 11502, February 24, 2017) (AD 2017-03-01). AD 2017-03-01 contains the same requirements as AD 2014-05-06, including the repetitive inspections, but corrected an error in the compliance time. Instead of issuing AD 2014-05-06 R1, we should have issued a new AD to change the repetitive inspections by replacing AD 2017-03-01.

AD 2017-03-01 is still an effective AD that requires repetitively inspecting the flight control bearings and installing bushings and washers. Accordingly, we are removing AD 2014-05-06 R1.

FAA's Justification and Determination of the Effective Date

AD 2014-05-06 R1 removed an AD that is no longer effective and required actions that are already required by an AD that is effective. As a result, AD 2014-05-06 R1 was causing confusion for operators and would have required unnecessary maintenance actions. We believe it is therefore unlikely that we will receive any adverse comments or useful information about this AD from U.S. operators. Therefore, we find good cause that notice and opportunity for prior public comment are unnecessary. In addition, for the reason stated above, we find that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866,

2. Is not a “significant rule” under DOT Regulatory Policies and Procedures (44 FR 11034, February 26, 1979),

3. Will not affect intrastate aviation in Alaska, and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2014-05-06 R1, Amendment 39-19529 (83 FR 64734, December 18, 2018), and adding a new AD:

2014-05-06 R2 Airbus Helicopters Deutschland GmbH (Type Certificate Previously Held by Eurocopter Deutschland GmbH): Amendment 39-19537; Docket No. FAA-2013-0555; Product Identifier 2010-SW-047-AD.

(a) Effective Date

This AD becomes effective February 19, 2019.

(b) Affected ADs

This AD removes AD 2014-05-06 R1, Amendment 39-19529 (83 FR 64734, December 18, 2018).

(c) Applicability

This AD applies to the following Airbus Helicopters Deutschland GmbH (type certificate previously held by Eurocopter Deutschland GmbH) helicopters, certificated in any category:

(1) Model EC135 P1, P2, P2+, T1, T2, and T2+ helicopters, serial number (S/N) 0005 through 00829, with a tail rotor control lever, part number (P/N) L672M2802205 or L672M1012212; cyclic control lever, P/N L671M1005250; collective control lever assembly, P/N L671M2020108; or collective control plate, P/N L671M5040207; installed, and

(2) Model MBB-BK 117 C-2 helicopters, S/N 9004 through 9310, with a tail rotor control lever assembly, P/N B672M1007101 or B672M1807101; tail rotor control lever, P/N B672M1002202 or L672M2802205; or lateral control lever assembly, P/N B670M1008101, installed.

(d) Subject

Joint Aircraft Service Component (JASC) Code: 6710, Main Rotor Control.

(e) Related Information

For more information about this AD, contact Matt Fuller, Senior Aviation Safety Engineer, Safety Management Section, Rotorcraft Standards Branch, FAA, 10101 Hillwood Pkwy., Fort Worth, TX 76177; telephone (817) 222-5110; email matthew.fuller@faa.gov.

Issued in Fort Worth, Texas, on December 20, 2018.
Lance T. Gant,
Director, Compliance & Airworthiness Division, Aircraft Certification Service.

[FR Doc. 2019-02631 Filed 2-15-19; 8:45 am]

BILLING CODE 4910-13-P